NUCLEAR REGULATORY COMMISSION

[Docket Nos. 50-334 and 50-412]

FirstEnergy Nuclear Operating Company (FENOC), et al.; Notice of Consideration of Issuance of Amendments to Facility Operating Licenses and Opportunity for a Hearing

The U.S. Nuclear Regulatory Commission (the Commission) is considering issuance of amendments to Facility Operating License Nos. DPR-66 and NPF-73, issued to FENOC (the licensee), for operation of the Beaver Valley Power Station, Unit Nos. 1 and 2 (BVPS-1 and 2) located in Beaver County, Pennsylvania.

The proposed amendments would revise the BVPS-1 and 2 Facility Operating Licenses to allow operation at a maximum authorized power level of 2900 megawatts thermal (MWt), from the current maximum authorized power level of 2689 MWt. This represents an approximate 8% increase in the maximum authorized power level and is categorized as an extended power uprate (EPU). The proposed amendments would authorize operation of BVPS-1 with replacement Model 54F steam generators (SGs) installed. The proposed amendments would authorize the use of an alternate source term (AST) in accordance with Title 10 of the Code of Federal Regulations (10 CFR), part 50, Section 50.67, “Accident source term.” Specific guidance for AST implementation is contained in Regulatory Guide 1.183, “Alternative Radiological Source Terms for Evaluating Design Basis Accidents at Nuclear Power Reactors.” The licensee has superseded the portion of this amendment request related to the BVPS-1 SG replacement by its applications dated April 13, 2005, for BVPS-1 SG replacement. Specific Technical Specification (TS) changes requested to support the EPU include: (1) Revising the definition of Rated Thermal Power, (2) revising fuel assembly specific departure from nucleate boiling ratios and correlations, (3) raising the maximum temperature of the refueling water storage tank, (4) modifying Overtemperature ΔT and Overpower ΔT equations for BVPS-1 only, (5) revising the SG water level low-low and high-high trip setpoints for BVPS-1 only, (6) revising the required SG secondary side level in Modes 4 and 5 for BVPS-1 only, (7) raising the tolerance settings for the pressurizer safety valves, (8) revising the SG TSs to reflect the replacement SGs for BVPS-1 only, (9) revising the SG TS tube sleeve reference and the TIG (tungsten inert gas) welded SG sleeve repair limit for BVPS-2 only, (10) revising the specific activity for the primary coolant system for BVPS-1 only, (11) increasing the band for accumulator water volume and nitrogen pressure, (12) revising the required charging pump discharge pressure for reactor coolant pump seal injection flow, (13) revising the tolerance settings for the main steam safety valves (MSSVs), (14) changing the allowable power limits associated with inoperable MSSVs, (15) revising the primary plant demineralized water storage tank volume, (16) revising the specific activity of the secondary coolant system for BVPS-1 only, and (17) adding WCAP-14565 and WCAP-15025 to the list of NRC-approved methodologies in TS 6.9.5.

In addition, the licensee has requested numerous TS changes that are not directly related to the EPU request. These include: (1) Deleting the Power Range, Neutron Flux High Negative Rate trip, (2) adding a footnote to Table 3.3-3, “Engineered Safety Features Actuation System Instrumentation,” concerning time constraints for steamline pressure low for BVPS-1 only, (3) removing the boron injection tank concentration TS for BVPS-1 only, and (4) renaming the boron injection tank flow path TS for BVPS-1 only. Administrative TS changes to remove the amendment number from the operating licenses in paragraphs 2.C(2) for BVPS-1 and 2 and to correct an inconsistency regarding a referenced permissive for BVPS-1 were also proposed.

Before issuance of the proposed license amendment, the Commission will have made findings required by the Atomic Energy Act of 1954, as amended (the Act), and the Commission's regulations.

Within 60 days after the date of publication of this notice, the licensee may file a request for a hearing with respect to issuance of the amendment to the subject facility operating license and any person whose interest may be affected by this proceeding and who wishes to participate as a party in the proceeding must file a written request for a hearing and a petition for leave to intervene. Requests for a hearing and a petition for leave to intervene shall be filed in accordance with the Commission's “Rules of Practice for Domestic Licensing Proceedings” in 10 CFR Part 2. Interested persons should consult a current copy of 10 CFR 2.309, which is available at the Commission's public document room (PDR), located at One White Flint North, Public File Area O-1F21, 11555 Rockville Pike (first floor), Rockville, Maryland. Publicly available records will be accessible from the Agencywide Documents Access and Management System's (ADAMS's) Public Electronic Reading Room on the Internet at the NRC Web site, http://www.nrc.gov/reading-rm/doc-collections/cfr/. If a request for a hearing or petition for leave to intervene is filed by the above date, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner/requestor in the proceeding, and how that interest may be affected by the results of the proceeding. The petition should specifically explain the reasons why intervention should be permitted with particular reference to the following general requirements: (1) The name, address and telephone number of the requestor or petitioner;

(2) the nature of the requestor's/petitioner's right under the Act to be made a party to the proceeding; (3) the nature and extent of the requestor's/petitioner's property, financial, or other interest in the proceeding; and (4) the possible effect of any decision or order which may be entered in the proceeding on the requestor's/petitioner's interest. The petition must also identify the specific contentions which the petitioner/requestor seeks to have litigated at the proceeding.

Each contention must consist of a specific statement of the issue of law or fact to be raised or controverted. In addition, the petitioner/requestor shall provide a brief explanation of the bases for the contention and a concise statement of the alleged facts or expert opinion which support the contention and on which the petitioner intends to rely in proving the contention at the hearing. The petitioner must also provide references to those specific sources and documents of which the petitioner is aware and on which the petitioner intends to rely to establish those facts or expert opinion. The petition must include sufficient information to show that a genuine dispute exists with the applicant on a material issue of law or fact. Contentions shall be limited to matters within the scope of the amendment under consideration. The contention must be one which, if proven, would entitle the petitioner/requestor to relief. A petitioner/requestor who fails to satisfy these requirements with respect to at least one contention will not be permitted to participate as a party.

Those permitted to intervene become parties to the proceeding, subject to any limitations in the order granting leave to intervene, and have the opportunity to participate fully in the conduct of the hearing.

Nontimely requests and/or petitions and contentions will not be entertained absent a determination by the Commission or the presiding officer of the Atomic Safety and Licensing Board that the petition, request and/or the contentions should be granted based on a balancing of the factors specified in 10 CFR 2.309(a)(1)(i)-(viii).

A request for a hearing or a petition for leave to intervene must be filed by: (1) First class mail addressed to the Office of the Secretary of the Commission, U.S. Nuclear Regulatory Commission, Washington, DC 20555-0001, Attention: Rulemaking and Adjudications Staff; (2) courier, express mail, and expedited delivery services: Office of the Secretary, Sixteenth Floor, One White Flint North, 11555 Rockville Pike, Rockville, Maryland 20852. Attention: Rulemaking and Adjudications Staff; (3) E-mail addressed to the Office of the Secretary, U.S. Nuclear Regulatory Commission, HEARINGDOCKET@NRC.GOV; or (4) facsimile transmission addressed to the Office of the Secretary, U.S. Nuclear Regulatory Commission, Washington, DC, Attention: Rulemakings and Adjudications Staff at (301) 415-1101, verification number is (301) 415-1966. A copy of the request for hearing and petition for leave to intervene should also be sent to the Office of the General Counsel, U.S. Nuclear Regulatory Commission, Washington, DC 20555-0001, and it is requested that copies be transmitted either by means of facsimile transmission to 301-415-3725 or by e-mail to OGCMailCenter@nrc.gov. A copy of the request for hearing and petition for leave to intervene should also be sent to Mary O'Reilly, FirstEnergy Nuclear Operating Company, FirstEnergy Corporation, 76 South Main Street, Akron, OH 44308, attorney for the licensee.

For further details with respect to this action, see the application for amendment dated October 4, 2004, and supplements dated February 23, May 26, and July 8, 2005, which are available for public inspection at the Commission's PDR, located at One White Flint North, Public File Area O-1F21, 11555 Rockville Pike (first floor), Rockville, Maryland. Publicly available records will be accessible electronically from the ADAMS Public Electronic Reading Room on the Internet at the NRC Web site, http://www.nrc.gov/reading-rm/adams.html. Persons who do not have access to ADAMS or who encounter problems in accessing the documents located in ADAMS, should contact the NRC PDR Reference staff by telephone at 1-800-397-4209, 301-415-4737, or by e-mail to pdr@nrc.gov.

Dated at Rockville, Maryland, this 11th day of August, 2005.
For the Nuclear Regulatory Commission.
Timothy G. Colburn,
Senior Project Manager, Section 1, Project Directorate I, Division of Licensing Project Management, Office of Nuclear Reactor Regulation.

[FR Doc. E5-4483 Filed 8-16-05; 8:45 am]

BILLING CODE 7590-01-P